DEPARTMENT OF HEALTH AND HUMAN SERVICES

Administration for Children and Families

Office of Community Services; Funding Opportunity: Compassion Capital Fund Targeted Capacity Building Program

Announcement Type: Competitive Grant-Initial.

Funding Opportunity Number: HHS-2004-ACF-OCS-EJ-0008.

CFDA Number: 93.647.

Dates: May 19, 2004.

I. Funding Opportunity Description

The Administration for Children and Families (ACF), Office of Community Services (OCS) announces that competing applications will be accepted for new grants pursuant to the U.S. Department of Health and Human Services (HHS) Secretary's Compassion Capital Fund (CCF) authorized under section 1110 of the Social Security Act governing Social Services Research and Demonstration activities and the Departments of Labor, Health and Human Services, and Education, and Related Agencies Appropriations Act, 2004, P.L. 107-116, Title II. Pursuant to this announcement, OCS will award funds to faith-based and community organizations that address the needs of either at-risk youth; the homeless; or provide marriage education and preparation services to help couples who choose marriage for themselves develop the skills and knowledge to form and sustain healthy marriages; or provide social services to those living in rural communities.

A. Background

Faith-based and community organizations have a long history of providing an array of important services to people and communities in need of charitable services in the United States. These groups have unique strengths that government cannot duplicate. They hold the trust of their community neighbors and leaders and have great understanding of the needs of the community and its systems. As a result, they are well positioned to understand the unique needs of at-risk youth, the homeless, those choosing to develop the skills and knowledge to form and sustain healthy marriages, and those living in rural communities in need of social services. Furthermore, the sense of mission from which these organizations work often translates into a unique approach to service delivery, a dedication of service to others, and a cultural awareness specific to their surrounding communities.

In recognition of this history and ability, President Bush believes it is in the public's interest to broaden Federal efforts to work with faith-based and community organizations, and he has made it a priority to ensure that these groups are treated equally with other organizations that apply for Federal funding. A key part of this effort to enhance and expand the participation of faith-based and community groups in serving those in need is the Compassion Capital Fund (CCF) Targeted-Capacity Building program described in this announcement.

B. Program Purpose and Objectives

The purpose of the CCF Targeted Capacity Building awards is to build the capacity of faith-based and community organizations that address one of the following four priority areas:

• At-risk youth;

• Homeless;

• Marriage education and preparation services to help couples who choose marriage for themselves develop the skills and knowledge to form and sustain healthy marriages;

• Social services to those living in rural communities. (See Section III. Eligibility Information for more information on rural communities)

CCF Capacity-Building awards will assist faith-based and community organizations to improve their program effectiveness and sustainability enhance their ability to provide social services, expand the organization, diversify the funding sources, and emulate model programs and best practices. The goal is to help promising organizations bolster their sustainability and ultimately be able to serve more people on a continuing basis.

Applicants must describe, in concrete terms, their plans for using funds to improve their organization in a sustainable way. Grantees must use these awards to increase efficiency and capacity; therefore, these awards cannot be used to augment or supplant direct service delivery funds. For example, an organization that distributes food to the poor will not receive a grant simply to purchase additional food. Nor, for example, will an organization that provides substance abuse treatment services receive additional funds simply to enable it to provide exactly the same services to more people. Although these awards might well enable these organizations to assist additional individuals, they would not serve to improve the organizations' sustainability, efficiency, or capacity. Rather, the organizations would simply use additional funds in the same way they use existing funds, without fundamentally changing or improving their services.

II. Award Information

Funding Instrument Type: Grant.

Anticipated total Priority Area Funding: $5.0 million.

Anticipated Number of Awards: 100.

Ceiling on amount of Individual Awards: $50,000.

Floor on Individual Award Amounts: None.

Average projected Award Amount: $50,000.

Project Periods for Awards: This announcement is soliciting applications for a 12-month project period. Awards, on a competitive basis, will be for a 12-month budget period.

III. Eligibility Information

1. Eligible Applicants

Non-profit organizations having a 501(c) (3) status with the Internal Revenue Code, other than institutions of higher education and Non-profit organizations that do not have a 501(c) (3) status with the Internal Revenue Code, other than institutions of higher education, and Native American Tribal governments (federally recognized). Faith-based organizations are eligible to apply for these grants.

Additional Information on Eligibility: Per the Department of Health and Human Services' Rural Office of Health, the following explanation provides a definition of those organizations eligible under the social service priority area, Rural Communities. All organizations in Non-Metropolitan counties as defined by the Office of Management and Budget are eligible for a grant under the social service priority area, Rural Communities. Due to the fact that entire counties are designated as Metropolitan when in fact, large parts of many counties may be rural in nature; ZIP Codes in Metropolitan counties that meet the criteria as defined by the Office of Rural Health are also eligible. To determine if a ZIP Code is defined as rural, please refer to the website at http://ruralhealth.hrsa.gov/funding/eligibilitytestv2.asp.

To be eligible for funding, applicants must demonstrate proof of non-profit status and this proof must be included in their applications (see section IV. 2). Proof of non-profit status is any one of the following:

(a) A reference to the applicant organization's listing in the Internal Revenue Service's (IRS) most recent list of tax-exempt organizations described in the IRS code.

(b) A copy of a currently valid IRS tax exemption certificate.

(c) A statement from a State taxing body, State Attorney General, or other appropriate State official certifying that the applicant organization has a non-profit status and that none of the net earnings accrue to any private shareholders or individuals.

(d) A certified copy of the organization's certificate of incorporation or similar document that clearly establishes non-profit status.

(e) Any of the items in the subparagraphs immediately above for a State or national parent organization and a statement singed by the parent organization that the applicant organization is a local non-profit affiliate.

Fiscal year (FY) 2003 ACF Compassion Capital Fund Targeted Capacity Building grantees are eligible to apply for FY2004 funding as long as the social service priority area addressed by their FY2004 proposed project differs from the priority area addressed in their FY2003 project.

Applicants are cautioned that the ceiling for individual awards is $50,000.

Applications exceeding the $50,000 threshold will be considered non-responsive and will not be eligible for funding under this announcement.

2. Cost Sharing or Matching: No

3. Other (If Applicable)

On June 27, 2003, the Office of Management and Budget published in the Federal Register a new Federal policy applicable to all Federal grant applicants. The policy requires all Federal grant applicants to provide a Dun and Bradstreet Data Universal Numbering System (DUNS) number when applying for Federal grants or cooperative agreements on or after October 1, 2003. The DUNS number will be required whether an applicant is submitting a paper application or using the government-wide electronic portal (http://www.Grants.gov). A DUNS number will be required for every application for a new award or renewal/continuation of an award, including applications or plans under formula, entitlement and block grant programs, submitted on or after October 1, 2003.

Please ensure that your organization has a DUNS number. You may acquire a DUNS number at no cost by calling the dedicated toll-free DUNS number request line on 1-866-705-5711 or you may request a number on-line at http://www.dnb.com.

Applicants are cautioned that the ceiling for individual awards is $50,000. Applications exceeding the $50,000 threshold will be considered non-responsive and will not be eligible for funding under this announcement.

Applications that do not follow the required format described in section IV.2 Application Requirements will be considered non-responsive and will not be eligible for funding under this announcement.

IV. Application and Submission Information

1. Address To Request Application Package

U.S. Department of Health and Human Services (HHS), Administration for Children and Families Office of Community Services Operations Center, Compassion Capital Fund Targeted Capacity Building Program, 1815 North Fort Meyer Drive, Suite 300, Arlington, VA 22209, Attention: Eduardo Hernandez, Telephone: 1-800-281-9519, E-mail: ocs@lcgnet.com.

2. Content and Form of Application Submission

An original and two copies of the complete application are required. The original and 2 copies must include all required forms, certifications, assurances, and appendices, be signed by an authorized representative, have original signatures, and be submitted unbound. Applicants have the option of omitting from the application copies (not the original) specific salary rates or amounts for individuals specified in the application budget.

Applicants must demonstrate proof of non-profit status and this proof must be included in their applications. Please include any one of the following:

(a) A reference to the applicant organization's listing in the Internal Revenue Service's (IRS) most recent list of tax-exempt organizations described in the IRS code.

(b) A copy of a currently valid IRS tax exemption certificate.

(c) A statement from a State taxing body, State Attorney General, or other appropriate State official certifying that the applicant organization has a non-profit status and that none of the net earnings accrue to any private shareholders or individuals.

(d) A certified copy of the organization's certificate of incorporation or similar document that clearly establishes non-profit status.

(e) Any of the items in the subparagraphs immediately above for a State or national parent organization and a statement signed by the parent organization that the applicant organization is a local non-profit affiliate.

You may submit your application to us either in electronic or paper format. To submit an application electronically, please use the http://www.Grants.gov apply site. If you use Grants.Gov you will be able to download a copy of the application package, complete it off-line, and then upload and submit the application via the Grants.gov site. You may not e-mail an electronic copy of a grant application to us.

Please note the following if you plan to submit your application electronically via Grants. Gov.

• Electronic submission is voluntary.

• When you enter the Grants.Gov site, you will find information about submitting an application electronically through the site, as well as the hours of operation. We strongly recommend that you do not wait until the application deadline date to begin the application process through Grants.Gov.

• To use Grants.gov, you, as the applicant, must have a DUNS Number and register in the Central Contractor Registry (CCR). You should allow a minimum of five days to complete the CCR registration.

• You will not receive additional point value because you submit a grant application in paper format.

• You may submit all documents electronically, including all information typically included on the SF424 and all necessary assurances and certifications.

• Your application must comply with any page limitation requirements described in this program announcement.

• After you electronically submit your application, you will receive an automatic acknowledgement from Grants.Gov that contains a Grants.Gov tracking number. The Administration for Children and Families will retrieve your application form Grants. Gov.

• We may request that you provide original signatures on forms at a later date.

• You may access the electronic application for this program on http://www.Grants.gov. You must search for the downloadable application package by the CFDA number.

Application Requirements

While applicants may be working in more than one priority area, they must select one (1) area and label their application accordingly. The application must identify one of the following four priority areas:

• At-risk youth.

• Homeless.

• Healthy Marriage.

• Rural Communities.

Applications proposing projects covering more than one priority area will not be given a higher priority than those projects working in just one area.

The application must be double-spaced and single-sided on 8½ x 11 plain white paper, with 1″ margins on all sides. The application must use Times New Roman 12 point font or Arial 12 point font. All pages of the application (including appendices, resumes, charts, references/footnotes, tables, maps and exhibits) must be sequentially numbered. Each application may include only one proposed project.

The Project Narrative including the Table of Contents must not exceed 8 pages. Pages submitted beyond the first 8 in the application Project Narrative section and Table of Contents will be removed prior to panel review. The Narrative Budget Justification, Standard Forms for Assurances, Certifications, Disclosures and appendices and the cost-share letters are not included in this limitation, yet applicants are urged to be concise.

Any additional supporting documentation, including letters of support and appendixes must not exceed 5 pages. Applicants are requested not to send pamphlets, brochures, or other printed material along with their applications as these pose copying difficulties. These materials, if submitted, will not be included in the review process.

Forms and Certifications: The project description should include all the information requirements described in the specific evaluation criteria outlined in the program announcement under Part V. In addition to the project description, the applicant needs to complete all the standard forms required for making applications for awards under this announcement. Applicants requesting financial assistance for non-construction projects must file the Standard Form 424B, “Assurances: Non-Construction Programs.” Applicants must sign and return the Standard Form 424B with their applications. Applicants must provide a certification regarding lobbying when applying for an award in excess of $100,000. Applicants must sign and return the certification with their applications. Applicants must disclose lobbying activities on the Standard Form LLL when applying for an award in excess of $100,000. Applicants who have used non-Federal funds for lobbying activities in connection with receiving assistance under this announcement shall complete a disclosure form, if applicable, with their applications. The forms (Forms 424, 424A-B; and Certifications may be found at: http://www.acf.hhs.gov/programs/ofs/forms.htm under new announcements. Fill out Standard Forms 424 and 424A and the associated certifications and assurances based on the instructions on the forms.

Private, non-profit organizations are encouraged to submit with their applications the survey located under “Grant Related Documents and Forms” titled “Survey for Private, Non-Profit Grant Applicants.” The forms are located on the web at http://www.acf.hhs.gov/programs/ofs/forms.htm.

3. Submission Dates and Times

The closing time and date for receipt of applications is 4:30 p.m. (Eastern Time Zone) on May 19, 2004. Mailed or hand carried applications received after 4:30 p.m. on the closing date will be classified as late.

Deadline: Mailed applications shall be considered as meeting an announced deadline if they are received on or before the deadline time and date at the following address: U.S. Department of Health and Human Services (HHS), Administration for Children and Families Office of Community Services Operations Center, Compassion Capital Fund Targeted Capacity Building Program—(Applicant identifies one of the following priority areas: At-risk youth, Homeless, Healthy Marriage, or Rural Community), 1815 North Fort Meyer Drive, Suite 300, Arlington, VA 22209, Attention: Barbara Ziegler Johnson, Telephone: 1-800-281-9519.

Applicants are responsible for mailing applications well in advance, when using all mail services, to ensure that the applications are received on or before the deadline time and date.

Applications hand carried by applicants, applicant couriers, other representatives of the applicant, or by overnight/express mail couriers shall be considered as meeting an announced deadline if they are received on or before the deadline date, between the hours of 8 a.m. and 5 p.m., EST, at the following address: U.S. Department of Health and Human Services (HHS), Administration for Children and Families Office of Community Services Operations Center, Compassion Capital Fund Targeted Capacity Building Program—(Applicant identifies one of the following priority areas: At-risk youth, Homeless, Healthy Marriage, or Rural Community), 1815 North Fort Meyer Drive, Suite 300, Arlington, VA 22209, Attention: Barbara Ziegler Johnson, Telephone: 1-800-281-9519.

Late applications: Applications which do not meet the criteria above are considered late applications. ACF shall notify each late applicant that its application will not be considered in the current competition.

Extension of deadlines: ACF may extend application deadlines when circumstances such as acts of God (floods, hurricanes, etc.) occur, or when there are widespread disruptions of mails service. Determinations to extend or waive deadline requirements rest with the Chief Grants Management Officer.

Required Forms:

What to submit | Required content | Required form or format | When to submit
Narrative | Described in Section v of this Announcement | Format described in Section V | By application due date.
SF 424, SF 424A, and SF 424B | Per required form | May be found at http://www.acf.hhs.gov/programs/ofs/forms.htm | By application due date.
Certification regarding Lobbying and associated Disclosure of Lobbying Activities (SF LLL) | Per required form | May be found at http://www.acf.hhs.gov/programs/ofs/forms.htm | By application due date.
Environmental Tobacco Smoke Certification | Per required form | May be found at http://www.acf.hhs.gov/programs/ofs/forms.htma | By application due date.

Additional Forms: Private-non-profit organizations may submit with their applications the additional survey located under “Grant Related Documents and Forms” titled “Survey for Private, Non-Profit Grant Applicants”.

What to submit | Required content | Required form or format | When to submit
Survey for Private, Non-Profit Grant Applicants | Per required form | May be found on http://www.acf.hhs.gov/programs/ofs/form.htm | By application due date.

4. Intergovernmental Review

State Single Point of Contact (SPOC)

This program is covered under Executive Order 12372, “Intergovernmental Review of Federal Programs,” and 45 CFR Part 100, “Intergovernmental Review of Department of Health and Human Services Programs and Activities.” Under the Order, States may design their own processes for reviewing and commenting on proposed Federal assistance under covered programs. As of June 20, 2001, the following jurisdictions have elected not to participate in the Executive Order process. Applicants from these jurisdictions or for projects administered by federally-recognized Indian Tribes need take no action in regard to E.O. 12372:

All States and Territories except Alabama, Alaska, Arizona, Colorado, Connecticut, Hawaii, Idaho, Indiana, Kansas, Louisiana, Massachusetts, Minnesota, Montana, Nebraska, New Jersey, Ohio, Oklahoma, Oregon, Pennsylvania, South Dakota, Tennessee, Vermont, Virginia, Washington and Wyoming have elected to participate in the Executive Order process and have established Single Point of Contacts (SPOCs). Applicants from these twenty-five jurisdictions need take no action regarding Executive Order 12372.

Although the jurisdictions listed above no longer participate in the process, entities which have met the eligibility requirements of the program are still eligible to apply for a grant even if a State, Territory, Commonwealth, etc. does not have a SPOC. All remaining jurisdictions participate in the Executive Order process and have established SPOCs.

Applicants from participating jurisdictions should contact their SPOCs as soon as possible to alert them about the prospective applications and receive instructions. Applicants must submit any required material to the SPOCs as soon as possible so that the program office can obtain and review SPOC comments as part of the award process. The applicant must submit all required materials, if any, to the SPOC and indicate the date of this submittal (or the date of contact if no submittal is required) on the Standard Form 424, item 16a. Under 45 CFR 100.8(a)(2), a SPOC has 60 days from the application deadline to comment on proposed new or competing continuation awards.

SPOCs are encouraged to eliminate the submission of routine endorsements as official recommendations. Additionally, SPOCs are requested to clearly differentiate between mere advisory comments and those official State process recommendations which may trigger the “accommodate or explain” rule.

Comments should be submitted directly to Department of Health and Human Services, Administration for Children and Families, Office of Grants Management, Division of Discretionary Grants, 370 L'Enfant Promenade, SW., Washington DC, 20447.

A list of the Single Points of Contact for each State and Territory is included with the application materials for this announcement.

5. Funding Restrictions

Sub-Contracting or Delegating Projects

OCS will not fund any project where the role of the applicant is primarily to serve as a conduit for funds to organizations other than the applicant. The applicant must have a substantive role in the implementation of the project for which funding is requested. This prohibition does not bar the making of sub-grants or sub-contracting for specific services or activities needed to conduct the project.

Number of Projects in Application

Each application may include only one proposed project.

Applicants are cautioned that the ceiling for individual awards is $50,000. Applications exceeding the $50,000 threshold will be considered non-responsive and will not be eligible for funding under this announcement.

Fiscal year (FY) 2003 ACF Compassion Capital Fund Targeted Capacity Building grantees are eligible to apply for FY2004 funding as long as the social service priority area addressed by their FY2004 proposed project differs from the priority area addressed in their FY2003 project.

In cases where more applications are approved for funding than ACF can fund with the money available, the Grants Officer shall fund applications in their order of approval until funds run out. In this case, ACF has the option of carrying over the approved applications up to a year for funding consideration in a later competition of the same program. These applications need not be reviewed and scored again if the program's evaluation criteria have not changed. However, they must then be placed in rank order along with other applications in the later competition.

6. Other Submission Requirements

Submission by Mail: An Applicant must provide an original application with all attachments, signed by an authorized representative and two copies. The Application must be received at the address below by 4:30 PM Eastern Standard Time on or before the closing date. Applications should be mailed to: U.S. Department of Health and Human Services (HHS), Administration for Children and Families Office of Community Services Operations Center, Compassion Capital Fund Targeted Capacity Building Program—(Applicant identifies one of the following priority areas: At-risk youth, Homeless, Healthy Marriage, or Rural Community), 1815 North Fort Meyer Drive, Suite 300, Arlington, VA 22209, Attention: Barbara Ziegler Johnson, Telephone: 1-800-281-9519.

Hand Delivery: An Applicant must provide an original application with all attachments signed by an authorized representative and two copies. The application must be received at the address below by 4:30 p.m. Eastern Standard Time on or before the closing date. Applications that are hand delivered will be accepted between the hours of 8 a.m. to 4:30 p.m., Monday through Friday. Applications may be delivered to: U.S. Department of Health and Human Services (HHS), Administration for Children and Families Office of Community Services Operations Center 1815 North Fort Meyer Drive, Suite 300 Arlington, VA 22209, Attention: Barbara Ziegler Johnson, Telephone: 1-800-281-9519.

V. Application Review Information

1. Criteria

General Instructions for the Uniform Project Description

The following section provides a general overview of the recommended contents of each applicant's project narrative. Following this general description are criteria specific to the Compassion Capital Fund Targeted Capacity Building program.

Approach

Outline a plan of action which describes the scope and detail of how the proposed work will be accomplished. Account for all functions or activities identified in the application. Cite factors which might accelerate or decelerate the work and state your reason for taking the proposed approach rather than others. Describe any unusual features of the project such as design or technological innovations, reductions in cost or time, or extraordinary social and community involvement. Provide quantitative monthly or quarterly projections of the accomplishments to be achieved for each function or activity in such terms as the number of people to be served and the number of activities accomplished. When accomplishments cannot be quantified by activity or function, list them in chronological order to show the schedule of accomplishments and their target dates.

If any data is to be collected, maintained, and/or disseminated, clearance may be required from the U.S. Office of Management and Budget (OMB). This clearance pertains to any “collection of information that is conducted or sponsored by ACF.”

List organizations, cooperating entities, consultants, or other key individuals who will work on the project along with a short description of the nature of their effort or contribution.

Organizational Profiles

Provide information on the applicant organization(s) and cooperating partners such as organizational charts, financial statements, audit reports or statements from CPAs/Licensed Public Accountants, Employer Identification Numbers, names of bond carriers, contact persons and telephone numbers, child care licenses and other documentation of professional accreditation, information on compliance with Federal/State/local government standards, documentation of experience in the program area, and any other pertinent information. Any non-profit organization submitting an application must submit proof of its non-profit 501 (c) (3) status in its application at the time of submission.

Results or Benefits Expected

Identify the results and benefits to be derived. For example, when applying for an award to expand program capacity, increase the types of services offered, increase access to funding from different sources and sectors, or improve staff capabilities, describe the goals and objectives of the activity and expected outcomes.

Objectives and Need for Assistance

Clearly identify the physical, economic, social, financial, institutional, and/or other problem(s) requiring a solution. The need for assistance must be demonstrated and the principal and subordinate objectives of the project must be clearly stated; supporting documentation, such as letters of support and testimonials from concerned interests other than the applicant, may be included. Any relevant data based on planning studies should be included or referred to in the endnotes/footnotes. Demographic data and participant/beneficiary information should be incorporated, as needed. In developing the project description, the applicant may volunteer or be requested to provide information on the total range of projects currently being conducted and supported (or to be initiated), some of which may be outside the scope of the program announcement.

Budget and Budget Justification

Provide line item detail and detailed calculations for each budget object class identified on the Budget Information form. Detailed calculations must include estimation methods, quantities, unit costs, and other similar quantitative detail sufficient for the calculation to be duplicated. The detailed budget must also include a breakout by the funding sources identified in Block 15 of the SF-424.

Provide a narrative budget justification that describes how the categorical costs are derived. Discuss the necessity, reasonableness, and allocability of the proposed costs.

Evaluation Criterion I: Approach (Maximum: 30 points)

Factors:

(1) Capacity-Building Strategy (25 points). Applications will be evaluated based on the extent to which the capacity-building approach or strategy is logical, reasonable, and clearly linked to the desired results and benefits expected. Applications will also be evaluated on the extent to which the principles and conditions outlined in the Announcement are evident in the applicant's approach.

(2) Geographic Location: (5 Points). Applications will be evaluated based on the extent to which they include a description of the precise region to be served, the rationale for proposing the region, and a detailed description of the population served in the proposed area, including statistics and facts that convey an understanding of the unique needs of the population in the area.

Evaluation Criterion II: Organizational Profiles (Maximum: 25 points)

Factors:

(1) Staff and Position Data: (10 Points). Applications will be evaluated on the extent to which they include a listing of key positions required to carry out the project, the individuals proposed to fill the positions, and a detailed description of the kind of work they will perform. Applications will also be evaluated on the extent to which evidence is provided demonstrating the staff's skill, knowledge, and experience in carrying out their assigned activities such as evidence that demonstrates not only staff's good technical skills, but also a clear record of working with faith-based and community organizations. Applications will also be evaluated on the extent to which the above information is provided with regard to consultants or staff from other organizations proposed to work on the project.

(2) Past Experience Working in Priority Social Service Area (at-risk youth, homeless, healthy marriage, or rural communities): (15 Points). Applications will be evaluated on the extent to which the applicant demonstrates experience and a proven track record in addressing the needs of at-risk youth, or the homeless, or those who choose marriage for themselves develop the skills and knowledge to form and sustain healthy marriages, and or those living in rural communities who in are need of social services. The applicant will be also be evaluated on the extent to which the application includes concrete examples of services and/or programs.

Evaluation Criterion III: Results or Benefits Expected (Maximum: 20 points)

Applications will be evaluated on the extent to which the specific goals of the project and the results and benefits proposed by the applicant are reasonable and likely, quantified, clearly linked to and supported by the proposed capacity-building approach, and supportive of the stated goals under this announcement.

Evaluation Criterion IV: Objectives and Need for Assistance (Maximum: 15 points)

Applications will be evaluated on the extent to which the objectives of the proposed project are clearly stated and shown to address the needs of the organization. In addition, applications will be evaluated on the extent to which the applicant presents a compelling need in the community for an increase or improvement in services and the extent to which the applicant demonstrates how the receipt of this Federal grant will enable the applicant to increase its capacity to address these vital needs.

Evaluation Criterion V: Budget and Budget Justification (Maximum: 10 points)

Applications will be evaluated based on the extent to which they include a budget that is clear, easy to understand, and that provides a detailed justification for the amount requested. Applicants should refer to the budget information presented in the Standard Forms 424 and 424A and to the budget justification instructions in section C. General Instructions for the Uniform Project Description. Since non-Federal reviewers will be used in the review of applications, applicants may omit from the copies of the application submitted (not from the original), the specific salary rates or amounts for individuals in the application budget and instead provide only summary information. The application should also state the last two years' recent operating budgets of the applicant; however, details of the budget are not required.

2. Review and Selection Process

Applications received by the due date will be reviewed and scored competitively. Experts in the field, generally persons from outside the Federal government, will use the evaluation criteria listed in Part V of this announcement to review and score the applications. The results of this review will be a primary factor in making funding decisions. ACF may also solicit comments from Regional Office staff and other Federal agencies. ACF may consider a variety of factors in addition to the review criteria identified above, including geographic diversity/coverage and types of applicant organizations, in order to ensure that the interests of the Federal Government are met in making the final selections. Furthermore, ACF may limit the number of awards made to the same or affiliated organizations although they would serve different geographic areas. Please note that applicants that do not comply with the requirements in the section titled “Eligible Applicants” will not be included in the review process.

Applications proposing projects in more than one area will not be given a higher priority than those working in only one priority area.

Legal Rules That Apply to Faith-Based Organizations That Receive Government Funds

CCF monies shall not be used to support inherently religious practices such as religious instruction, worship, or proselytization. Grant or sub-award recipients, therefore, may not and will not be selected based on religious criteria. Neutral, non-religious criteria that neither favor nor disfavor religion must be employed in selection of a grantee and sub-award recipients under this announcement.

Approved but Unfunded Applications: In cases where more applications are approved for funding than ACF can fund with the money available, the Grants Officer shall fund applications in their order of approval until funds run out. In this case, ACF has the option of carrying over the approved applications up to a year for funding consideration in a later competition of the same program. These applications need not be reviewed and scored again if the program's evaluation criteria have not changed. However, they must then be placed in rank order along with other applications in the later competition.

VI. Award Administration Information

1. Award Notices

The successful applicants will be notified through the issuance of a Financial Assistance Award document which sets forth the amount of funds granted, the terms and conditions of the grant, the effective date of the grant, the budget period for which initial support will be given, the non-Federal share to be provided, and the total project period for which support is contemplated. The Financial Assistance Award will be signed by the Grants Officer.

Organizations whose applications will not be funded will be notified in writing by the Office of Community Services.

2. Administrative and National Policy Requirements

45 CFR Part 74 and 45 CFR Part 92

Public reporting burden for this collection of information is estimated to average 25 hours per response, including the time for reviewing instructions, gathering and maintaining the data needed, and reviewing the collection of information. Under the Paperwork Reduction Act of 1995, Pub.L.104-13, the Department is required to submit to the Office of Management and Budget (OMB) for review and approval any reporting and record keeping requirements or regulations including program announcements. This program announcement does not contain information collection requirements beyond those approved for ACF grant applications under the Program Narrative Statement by OMB (Approval Number 0980-0204) which expires 3/31/2004. An agency may not conduct or sponsor, and a person is not required to respond to, a collection of information unless it displays a currently valid OMB control number.

3. Reporting

Programmatic Reports: Semi-annually.

Financial Reports: Semi-annually.

Special Reporting Requirements: None.

All grantees are required to submit semi-annual program reports; grantees are also required to submit semi-annual expenditure reports using the required financial standard form (SF-269) which is located on the Internet at: http://forms.psc.gov/forms/sf/SF-269.pdf. A suggested format for the program report will be sent to all grantees after the awards are made.

VII. Agency Contacts

Program Office Contact: Kelly Cowles, Office of Community Services, 370 L'Enfant Promenade, SW., Suite 500 West, Aerospace Building, Washington, DC 20447-0002, E-mail: ocs@lcgnet.com. Telephone: (800) 281-9519.

Grants Management Office Contact: Barbara Ziegler, Office of Grants Management, Division of Discretionary Grants, 370 L'Enfant Promenade, SW. 4th Floor West, Aerospace Building, Washington, DC 20447-0002.

E-mail: ocs@lcgnet.com. Telephone: (800) 281-9519.

General: Office of Community Services Operations Center, Compassion Capital Fund Demonstration Program, 1815 North Fort Meyer Drive, Suite 300, Arlington, VA 22209, Attention: Eduardo Hernandez, Telephone: 1-800-281-9519.

E-mail: ocs@lcgnet.com.

VIII. Other Information

Additional information about this program and its purpose can be located on the following Web sites: http://www.acf.hhs.gov/programs/ccf/, http://www.acf.hhs.gov/programs/ocs/, http://www.acf.hhs.gov/programs/ccf.

Dated: April 12, 2004.
Clarence Carter,
Director, Office of Community Services.

[FR Doc. 04-8791 Filed 4-16-04; 8:45 am]

BILLING CODE 4184-01-P